DEPARTMENT OF JUSTICE

Antitrust Division

Notice Pursuant to the National Cooperative Research and Production Act of 1993—National Armaments Consortium

Notice is hereby given that, on October 24, 2017, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, DfR Solutions, LLC, Beltsville, MD; Polaris Sensor Technologies, Inc., Hunstsville, MD; Nou Systems, Incorporated, Huntsville, AL; SMART Engineering Consultants, Havre de Grace, MD; Alaire Technologies Inc., Lorton, VA; KYNTEC Corporation, Cheektowaga, NY; Interlink Electronics, Inc., Westlake Village, CA; Scientic, Inc., Huntsville, AL; Projects Unlimited Inc., Dayton, OH; United Support Solutions-LMT, Inc., Grove, NJ; Management Services Group, Inc. dba Global Technical Systems, Virginia Beach, VA; Plus Designs Inc., Rosemont, PA; Novotech, Inc., Acton, MA; Custom MMIC Design Services Inc., Chelmsford, MA; Streamline Circuits Corp., Santa Clara, CA; ATS Armor, LLC, Scottsdale, AZ; Offset Strategic Services LLC, Fayettville, TN; and Numerica Corporation, Fort Collins, CO, have been added as parties to this venture.

Also, Camco One Industries, LLC, San Antonio, TX; Selective Intellect, LLC, Livingston, NJ; Noble Plastics Inc., Grand Coteau, LA; Meggitt (Orange County), Inc., Irvine, CA; Stevens Institute of Technology, Hoboken, NJ; OMNI Consulting Solutions, LLC, El Segundo, CA; Gun IQ International, LLC, Titusville, FL; Matrix Systems, Inc., Ashland, VA; Reperi LLC, Whitefish, MT; Kongsberg Protech Systems USA Corporation, Johnstown, PA; SCIENTIA, LLC, Bloomington, IN; and Corning Inc., Corning, NY, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on July 13, 2017. A notice was published in the Federal Register pursuant to Section 6(b) of the Act on August 15, 2017 (82 FR 38709).

Patricia A. Brink,
Director of Civil Enforcement, Antitrust Division.

[FR Doc. 2017-24768 Filed 11-15-17; 8:45 am]

BILLING CODE P